DEPARTMENT OF HEALTH AND HUMAN SERVICES

Centers for Disease Control and Prevention

Mine Safety and Health Research Advisory Committee: Meeting

In accordance with section 10(a)(2) of the Federal Advisory Committee Act (Pub. L. 92-463), the Centers for Disease Control and Prevention (CDC), announces the following committee meeting.

Name: Mine Safety and Health Research Advisory Committee (MSHRAC).

Time and Date: 9 a.m.-4 p.m., January 24, 2001.

Place: The Washington Court, 525 New Jersey Avenue, NW, Washington, DC 20001-1527.

Status: Open to the public, limited only by space available. The meeting room accommodates approximately 50 people.

Purpose: The Committee is charged with advising the Secretary; the Director, Centers for Disease Control and Prevention (CDC); and the Director, National Institute for Occupational Safety and Health (NIOSH), CDC, on priorities in mine safety and health research, including grants and contracts for such research, 30 U.S.C. 812(b)(2), Section 102(b)(2).

Matters to be Discussed: Agenda items include the Acting Director's comments; Report from Associate Director-Mining; Dust Monitoring Update; Ground Control Update; Self-contained Self-rescuer Initiative Update; NIOSH Activities as Related to Libby, MT, Asbestos Issue; and future activities of the Committee.

Agenda items are subject to change as priorities dictate.

CONTACT PERSON FOR MORE INFORMATION: Lewis V. Wade, Ph.D., Executive Secretary, MSHRAC, NIOSH, CDC, 200 Independence Avenue, SW., Room 715-H Humphrey Building, Washington, DC 20201, telephone 202/401-2192, fax 202/260-4464.

The Director, Management Analysis and Services Office has been delegated the authority to sign Federal Register notices pertaining to announcements of meetings and other committee management activities, for both the Centers for Disease Control and Prevention and the Agency for Toxic Substances and Disease Registry.

Dated: January 2, 2001.
Carolyn J. Russell,
Director, Management Analysis and Services Office, Centers for Disease Control and Prevention (CDC).

[FR Doc. 01-424 Filed 1-5-01; 8:45 am]

BILLING CODE 4163-19-P